DEPARTMENT OF COMMERCE

National Oceanic and Atmospheric Administration

RIN: 0648-XH12

Western Pacific Fishery Management Council; Public Meeting

AGENCY: National Marine Fisheries Service (NMFS), National Oceanic and Atmospheric Administration (NOAA), Commerce.

ACTION: Notice of a public meeting.

SUMMARY: The Western Pacific Fishery Management Council (Council) will hold meetings of its Pelagics Plan Team (PPT), in Honolulu, HI, to discuss fishery issues and develop recommendations for future management.

DATES: The meeting of the PPT will be held April 29, 2008 through May 1, 2008, from 8:30 a.m. to 5 p.m. each day.

ADDRESSES: The meeting will be held at the Council Office Conference Room, Western Pacific Fishery Management Council, 1164 Bishop St., Suite 1400, Honolulu, HI 96813; telephone: (808) 522-8220.

FOR FURTHER INFORMATION CONTACT: Kitty M. Simonds, Executive Director; telephone: (808) 522-8220.

SUPPLEMENTARY INFORMATION: The PPT will meet between April 29 and May 1, 2008 at the Council Conference Room to discuss the following agenda items:

Tuesday April 29, 2008, 8:30 a.m.

1. Introduction

2. Annual Report review

a. Review 2007 Annual Report modules and recommendations

i. American Samoa

ii. CNMI

iii. Guam

iv. Hawaii

v. International

vi. Recreational

b. 2007 Annual Report region wide recommendations

Wednesday & Thursday, April 30-May 1, 2008, 8:30 a.m.

3. Summary of current Fishery Management Plan amendment actions

4. Hawaii Swordfish Fishery Effort

5. Cost-earning study for the Hawaii longline fishery

6. Species specific analyses of shark catch data from the Hawaii Longline fishery, 1995-1996

7. Ecological Risk Assessment (ERA) for Hawaii based longline fisheries

8. Hana Fish Aggregating Device (FAD) catch data

9. Offshore handline fishery

10. Cooperative Research

11. Protected species issues

12. Recreational fisheries developments (Marine Recreational Improvement Program)

13. Other business

14. Public comments

15. Pelagic Plan Team Recommendations

The order in which the agenda items are addressed may change. The PPT will meet as late as necessary to complete scheduled business.

Although non-emergency issues not contained in this agenda may come before the PPT for discussion, those issues may not be the subject of formal action during these meetings. Plan Team action will be restricted to those issues specifically listed in this document and any issue arising after publication of this document that requires emergency action under section 305(c) of the Magnuson-Stevens Fishery Conservation and Management Act, provided the public has been notified of the Council's intent to take final action to address the emergency.

Special Accommodations

These meetings are physically accessible to people with disabilities. Requests for sign language interpretation or other auxiliary aids should be directed to Kitty M. Simonds, (808) 522-8220 (voice) or (808) 522-8226 (fax), at least 5 days prior to the meeting date.

Authority: 16 U.S.C. 1801 et seq.

Dated: April 7, 2008.
Tracey L. Thompson,
Acting Director, Office of Sustainable Fisheries, National Marine Fisheries Service.

[FR Doc. E8-7525 Filed 4-9-08; 8:45 am]

BILLING CODE 3510-22-S